DEPARTMENT OF TRANSPORTATION

Office of the Secretary

Aviation Proceedings, Agreements filed the week ending November 11, 2005

The following Agreements were filed with the Department of Transportation under the sections 412 and 414 of the Federal Aviation Act, as amended (49 U.S.C. 1382 and 1384) and procedures governing proceedings to enforce these provisions. Answers may be filed within 21 days after the filing of the application.

Docket Number: OST-2005-23008.

Date Filed: November 10, 2005.

Parties: Members of the International Air Transport Association.

Subject: PTC2 Within Africa Mail Vote 466, Special Passenger Amending Resolution 010z, From Cameroon to Africa, Intended effective date: 1 December 2005.

Docket Number: OST-2005-22975.

Date Filed: November 8, 2005.

Parties: Members of the International Air Transport Association.

Subject: Geneva, 10-13 October 2005, TC2 Within Europe, Intended effective date: 1 December 2005.

Docket Number: OST-2005-22977.

Date Filed: November 8, 2005.

Parties: Members of the International Air Transport Association.

Subject: Mail Vote 465—Resolution 010y, Special Passenger Amending Resolution from Korea (Rep.of) to Japan, Intended effective date: 15 November 2005.

Docket Number: OST-2005-22978.

Date Filed: November 8, 2005.

Parties: Members of the International Air Transport Association.

Subject: TC2 Within Europe, Geneva, 10-13 October 2005, Intended effective date: 15 January 2006.

Docket Number: OST-2005-22963.

Date Filed: November 7, 2005.

Parties: Members of the International Air Transport Association.

Subject: TC23/TC123 Mail Vote 458 between Middle East and South East Asia, Geneva, 12-14 September 2005, Intended effective date: 15 January 2006.

Renee V. Wright,
Program Manager, Docket Operations, Federal Register Liaison.

[FR Doc. E5-6894 Filed 12-5-05; 8:45 am]

BILLING CODE 4910-62-P